DEPARTMENT OF THE TREASURY

Financial Crimes Enforcement Network

Office of the Comptroller of the Currency

Office of Thrift Supervision

FEDERAL RESERVE SYSTEM

FEDERAL DEPOSIT INSURANCE CORPORATION

NATIONAL CREDIT UNION ADMINISTRATION

Agency Information Collection Activities; Proposed Collection; Comment Request; Suspicious Activity Report by Financial Institutions

AGENCY: Financial Crimes Enforcement Network (FinCEN), Office of the Comptroller of the Currency (OCC), Office of Thrift Supervision (OTS), Board of Governors of the Federal Reserve System (Board), Federal Deposit Insurance Corporation (FDIC), National Credit Union Administration (NCUA).

ACTION: Notice and request for comments.

SUMMARY: FinCEN and the Supervisory Agencies (OCC, OTS, Board, FDIC, and NCUA), as part of their continuing effort to reduce paperwork and respondent burden, invite the general public and other Federal agencies to take this opportunity to comment on information collections, as required by the Paperwork Reduction Act of 1995, Public Law 104-13 (44 U.S.C. 3506(c)(2)(A)). FinCEN, OCC, OTS, Board, FDIC, and NCUA are soliciting comments concerning the Suspicious Activity Report, which is being revised to include two new check boxes in Part III, box 35, suspicious activities, for terrorist financing and identify theft and to update the language in the Safe Harbor provision to that contained in the PATRIOT Act. The OCC is also soliciting comments on all information collections contained in 12 CFR part 21. No new reporting requirements are being added.

DATES: Written comments should be received on or before January 3, 2003.

ADDRESSES: Interested parties are invited to submit written comments to any or all of the agencies. All comments, which should refer to the OMB control number(s), will be shared among the agencies. Direct all written comments as follows:

FinCEN: Financial Crimes Enforcement Network, Department of the Treasury, PO Box 39, Vienna, VA 22183, Attention: 1506-0001, Revised SAR, Financial Institutions. Comments also may be submitted by electronic mail to the following Internet address: regcomments@fincen.treas.gov with the caption in the body of the text, “Attention: 1506-0001, Revised SAR, Financial Institutions”.

OCC: Public Information Room, Office of the Comptroller of the Currency, 250 E Street, SW., Mail stop 1-5, Attention: 1557-0180, Washington, DC 20219. In addition, comments may be sent by facsimile transmission to (202) 874-4448, or by electronic mail to regs.comments@occ.treas.gov. Due to disruptions in OCC's mail service since September 11, commenters are encouraged to submit comments by fax or e-mail. You can make an appointment to inspect comments by calling (202) 874-5043.

OTS: Information Collection Comments, Chief Counsel's Office, Office of Thrift Supervision, 1700 G Street, NW., Washington, DC 20552; send a facsimile transmission to (202) 906-6518; or send an e-mail to infocollection.comments@ots.treas.gov. OTS will post comments and the related index on the OTS Internet site at www.ots.treas.gov. In addition, interested persons may inspect comments at the Public Reading Room, 1700 G Street, NW., by appointment. To make an appointment, call (202) 906-5922, send an e-mail to publicinfo@ots.treas.gov, or send a facsimile transmission to (202) 906-7755.

Board: Comments may be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the office of the Secretary at 202-452-3819 or 202-452-3102. Comments addresses to Ms. Johnson may also be delivered to the Board's mail facility in the West Courtyard between 8:45 a.m. and 5:15 p.m., located on 21st Street between Constitution Avenue and C Street, NW. Members of the public may inspect comments in Room MP-500 between 9 a.m. and 5 p.m. on weekdays pursuant to 261.12, except as provided in 261.14, of the Board's Rules Regarding Availability of Information, 12 CFR 261.12 and 261.14.

FDIC: Written comments should be addressed to Robert E. Feldman, Executive Secretary, Attention: Comments/OES, Federal Deposit Insurance Corporation, 550 17th Street, NW., Washington, DC 20429. Comments may be hand-delivered to the guard station at the rear of the 550 17th Street Building (located on F Street), on business days between 7 a.m. and 5 p.m. (FAX number (202) 898-3838: Internet address: comments@fdic.gov). Comments may be inspected and photocopied in the FDIC Public Information Center, Room 100, 801 17th Street, NW., Washington, DC, between 9 a.m. and 4:30 p.m., on business days.

NCUA: Clearance Officer: Mr. Neil M. McNamara, (703) 518-6447, National Credit Union Administration, 1775 Duke Street, Alexandria, VA 22314-3428, Fax No. 703-518-6489, E-mail: mcnamara@ncua.gov.

FOR FURTHER INFORMATION CONTACT: Requests for additional information or a copy of the collection may be obtained by contacting:

FinCEN: Russell Stephenson, 202-354-6400 (ORP);

OCC: Jessie Dunaway, OCC Clearance Officer, or Camille Dixon, Legislative and Regulatory Activities Division, Office of the Comptroller of the Currency, 250 E Street, SW., Washington, DC 20219, (202) 874-5090.

OTS: Richard Stearns, Enforcement Deputy Counsel, Office of Enforcement, Office of Thrift Supervision, 1700 G Street, NW., Washington, DC 20552, (202) 906-7966.

Board: Herbert A. Biern, Senior Associate Director, Division of Banking Supervision and Regulation, (202) 452-2620. For users of Telecommunications Devices for the Deaf (TDD) only, contact 202-263-4869, Board of Governors of the Federal Reserve System, 20th Street and Constitution Avenue, NW., Washington, DC 20551.

FDIC: Tamara R. Manly, Office of the Executive Secretary, FDIC, 550 17th Street, NW., Washington, DC 20429, (202) 898-7453.

NCUA: NCUA Clearance Officer, Mr. Neil M. McNamara, (703) 518-6447, or John K. Ianno, Office of General Counsel, (703) 518-6540.

SUPPLEMENTARY INFORMATION: Title: Suspicious Activity Report. The OCC is renewing all information collections covered under information collection titled: “(MA)—Minimum Security Devices and Procedures, Reports of Suspicious Activities, and Bank Secrecy Act Compliance—12 CFR 21.” FinCEN is renewing 31 CFR 103.18.

OMB Numbers:

FinCEN: 1506-0001

OCC: 1557-0180

OTS: 1550-0003

Board: 7100-0212

FDIC: 3064-0077

NCUA: 3133-0094

Form Numbers:

FinCEN: TD F 90-22.47

OCC: None

OTS: 1601

Board: FR 2230

FDIC: 6710/06

NCUA: 2362

Abstract: In 1985, the Supervisory Agencies issued procedures to be used by banks and certain other financial institutions operating in the United States to report known or suspected criminal activities to the appropriate law enforcement and Supervisory Agencies. Beginning in 1994, the Supervisory Agencies and FinCEN completely redesigned the reporting process resulting in a Suspicious Activity Report, which became effective in April 1996.¹

¹ The report is authorized by the following rules: 31 CFR 103.18 (FinCEN); 12 CFR 21.11 (OCC); 12 CFR 563.180 (OTS); 12 CFR 208.20 (Board); 12 CFR 353.3 (FDIC); 12 CFR 748.1 (NCUA). The rules were issued under the authority of 31 U.S.C. 5318(g) (FinCEN); 12 U.S.C. 93a, 1818, 1881-84, 3401-22, 31 U.S.C. 5318 (OCC); 12 U.S.C. 1463 and 1464 (OTS); 12 U.S.C. 324, 334, 611a, 1844(b) and (c), 3015(c)(2) and 3106(a) (Board); 12 U.S.C. 93a, 1818, 1881-84, 3401-22 (FDIC); 12 U.S.C. 1766(a), 1789(a) (NCUA).

Current Action: This Notice proposes three minor revisions to the form. In Part III Suspicious Activity Information, block 35 Summary characterization of suspicious activity, two new boxes would be added. A box to indicate “Terrorist Financing” and a box to indicate “Identity Theft.” The third is an update to the “Safe Harbor” wording to reflect changes by the Patriot Act. These additions will improve the form's usefulness to law enforcement and the Supervisory Agencies.

Type of Review: Revision of a currently approved collection.

Affected Public: Business, for-profit institutions, and non-profit institutions.

Estimated Number of Respondents:

FinCEN: 22,600²

² Respondents represent many of the same institutions responding to the Supervisory Agencies.

OCC: 2252

OTS: 990

Board: 10,000

FDIC: 8000

NCUA: 9300

Estimated Total Annual Responses:

FinCEN: 63,750

OCC: 54,172

OTS: 20,804

Board: 11,162

FDIC: 16,018

NCUA: 2,961

Estimated Total Annual Burden:

Estimated 30 minutes per form.

FinCEN: 31,750 hours ³

³ Only one form is filed in satisfaction of the rules of both FinCEN and the Supervisory Agencies. The estimated burden per form is 30 minutes; the hourly burden does not attempt to allocate that time between agencies when the form is filed in satisfaction of the rules of more than one agency.

OCC: 32,906 hours

OTS: 10,402 hours

Board: 5,581 hours

FDIC: 8,009 hours

NCUA: 1,480 hours

An agency may not conduct or sponsor, and a person is not required to respond to, a collection of information unless the collection of information displays a valid OMB control number. Records required to be retained under the Bank Secrecy Act and these regulations issued by the Supervisory Agencies must be retained for five years. Generally, information collected pursuant to the Bank Secrecy Act is confidential, but may be shared as provided by law with regulatory and law enforcement authorities.

Request for Comments: Comments submitted in response to this notice will be summarized and/or included in the request for OMB approval. All comments will become a matter of public record.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology, and (e) estimates of capital or start-up costs and costs of operation, maintenance and purchase of services to provide information.

Dated: October 28, 2002.
James F. Sloan,
Director, Financial Crimes Enforcement Network.

Dated: September 20, 2002.
Mark J. Tenhundfeld,
Assistant Director, Legislative and Regulatory Activities Division, Office of the Comptroller of the Currency.

Dated: September 24, 2002.
Deborah Dakin,
Deputy Chief Counsel, Regulations and Legislation Division, Office of Thrift Supervision.

By the Board of Governors of the Federal Reserve System on October 3, 2002.
Jennifer J. Johnson,
Secretary of the Board.

By Order of the Board of Directors.
Dated in Washington, DC, this 30th day of September, 2002.
Federal Deposit Insurance Corporation.
Robert E. Feldman,
Executive Secretary.

By the National Credit Union Administration Board on September 24, 2002.
Becky Baker.
Secretary of the Board.

BILLING CODE 4810-02-P

[FR Doc. 02-27771 Filed 11-4-02; 8:45 am]

BILLING CODE 4810-02-C